UNIFIED CARRIER REGISTRATION PLAN

Sunshine Act Meetings

TIME AND DATE: April 13, 2023, 1:30 p.m. to 5:00 p.m., Eastern Time.

PLACE: This meeting will take place at the Holiday Inn and Suites Biltmore Village, The Laurel Room, 186 Hendersonville Road, Asheville, NC 28803. This meeting will also be accessible via conference call and via Zoom Meeting and Screenshare. Any interested person may call (i) 1-929-205-6099 (US Toll) or 1-669-900-6833 (US Toll), Meeting ID: 928 2739 8984, to listen and participate in this meeting. The website to participate via Zoom Meeting and Screenshare is https://kellen.zoom.us/meeting/register/tJYlde6rpzMjEtCzNGAbe-bF3vkE-p3kiNFS.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed, and the Board will consider adoption.

Ground Rules

➢ Board actions taken only in designated areas on agenda.

IV. Approval of Minutes of the January 19 UCR Board Meeting—UCR Board Chair

For Discussion and Possible Board Action

Draft Minutes from the January 19, 2023 UCR Board meeting will be reviewed. The Board will consider action to approve.

V. Report of FMCSA—FMCSA Representative

The Federal Motor Carrier Safety Administration (FMCSA) will provide a report on relevant activity.

VI. Proposal To Send a Letter to All New US DOT Interstate Motor Carriers, Freight Forwarders, Leasing Companies, and Brokers From Non-Participating States and Rhode Island—UCR Executive Director and Seikosoft

For Discussion and Possible Board Action

The UCR Executive Director and a Seikosoft representative will present a proposal to the UCR Board to send a letter to all new USDOT interstate motor carriers, freight forwarders, leasing companies, and brokers from non-participating states and Rhode Island requesting that the entity register for UCR. The Board may consider and approve the cost of sending such a letter to all new USDOT interstate motor carriers, freight forwarders, leasing companies, and brokers from non-participating states and Rhode Island.

VII. Subcommittee Reports

Audit Subcommittee—UCR Audit Subcommittee Chair

A. Update on the Success of the First Audit Subcommittee Monthly Question and Answer Session for States Auditors—UCR Audit Subcommittee Chair, UCR Audit Subcommittee Vice-Chair

The UCR Audit Subcommittee Chair and UCR Audit Subcommittee Vice-Chair will lead a discussion regarding the turnout for the first 60-minute virtual question and answer sessions.

B. Review States' Audit Compliance Snapshot for Registration Rates Audit Percentages for Years 2022 and 2023—UCR Audit Subcommittee Chair

The UCR Audit Subcommittee Chair will review audit compliance rates for the states for registration years 2022 and 2023 and related compliance percentages for FARs, retreat audits and registration compliance percentages and open Bracket 5 and 6 motor carriers.

C. Review the Kansas Roadside Inspection Amendment Pilot—UCR Audit Subcommittee Chair

The UCR Audit Subcommittee Chair will review the Roadside Inspection Amendment Pilot that began March 1, 2023. The pilot reviews all Should-Have-Beens (SHBs) for the previous day and then amends the roadside inspection to include the UCR 392.2 violation. It also includes a letter that puts the motor carrier on notice that if they are stopped again, they will be issued a $300 dollar civil fine each time going forward.

Finance Subcommittee—UCR Finance Subcommittee Chair

A. Allocation of Unspent 2022 UCR Administrative Funds and Interest Earned on UCR Administrative Funds—UCR Finance Subcommittee Chair

For Discussion and Possible Board Action

The UCR Finance Subcommittee Chair will lead a discussion on which reserve funds should receive allocations of unspent 2022 administrative funds and interest earned on those funds and provide the Subcommittee's recommendation to the Board of Directors for possible adoption. The Board may consider and approve allocations of unspent 2022 administrative funds and interest earned on those funds to reserve funds.

B. Distribution From the UCR Depository for Under-Cap States—UCR Finance Subcommittee Chair and UCR Depository Manager

The UCR Finance Subcommittee Chair and the UCR Depository Manager will provide an update on the timing for a distribution of fees from the UCR Depository to states that have not yet reached their revenue entitlements for the 2023 registration year.

C. Discussion of UCR Investment Policy—UCR Finance Subcommittee Chair

The UCR Finance Subcommittee Chair will provide the Board an overview of the market factors and account structures of UCR Funds and provide a summary of discussion from the Finance Subcommittee Meeting in March 2023.

Education and Training Subcommittee—UCR Education and Training Subcommittee Chair

Update on Current and Future Training Initiatives—UCR Education and Training Subcommittee Chair

The Education and Training Subcommittee Chair will provide an update on current and planned future training initiatives and the E-Certificate program.

Industry Advisory Subcommittee—UCR Industry Advisory Subcommittee Chair

Update on Current Initiatives—UCR Industry Advisory Subcommittee Chair

The UCR Industry Advisory Subcommittee Chair will provide an update on current and planned initiatives regarding motor carrier industry concerns.

Enforcement Subcommittee—UCR Enforcement Subcommittee Chair

Update on Current Initiatives—UCR Enforcement Subcommittee Chair

The UCR Enforcement Subcommittee Chair will provide an update on current and planned initiatives.

VIII. Contractor Reports—UCR Board Chair

• UCR Executive Director's Report

The UCR Executive Director will provide a report covering recent activity for the UCR Plan.

• DSL Transportation Services, Inc.

DSL Transportation Services, Inc. will report on the latest data from the Focused Anomaly Reviews (FARs) program, discuss motor carrier inspection results, pilot projects and other matters.

• Seikosoft

Seikosoft will provide an update on recent/new activity related to the National Registration System (NRS).

• UCR Administrator Report (Kellen)

The UCR Chief of Staff will provide a management report covering recent activity for the Depository, Operations, and Communications.

IX. Other Business—UCR Board Chair

The UCR Board Chair will call for any other business, old or new, from the floor.

X. Adjournment—UCR Board Chair

The UCR Board Chair will adjourn the meeting.

The agenda will be available no later than 5:00 p.m. Eastern time, April 5, 2023, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-07572 Filed 4-6-23; 4:15 pm]

BILLING CODE 4910-YL-P